DEPARTMENT OF ENERGY

Federal Energy Regulatory Commission

[Docket No. EL00-114-000]

Dynegy Power Marketing, Inc., Complainant v. Ameren Services Company, Respondent; Notice of Complaint

September 29, 2000.

Take notice that on September 28, 2000, Dynegy Power Marketing, Inc. (Dynegy) tendered for filing a Complaint against Ameren Services Company, (Ameren).

In its Complaint, Dynegy alleges that Ameren has violated its Open Access Transmission Tariff (OATT) by refusing to recognize rollover rights for existing Point-to-Point Transmission Services.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before October 10, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before October 10, 2000.

David P. Boergers,
Secretary.

[FR Doc. 00-25617 Filed 10-4-00; 8:45 am]

BILLING CODE 6717-01-M